DEPARTMENT OF EDUCATION

Applications for New Awards; Fulbright-Hays Doctoral Dissertation Research Abroad Fellowship Program

AGENCY: Office of Postsecondary Education, Department of Education.

ACTION: Notice.

SUMMARY: The Department of Education is issuing a notice inviting applications for fiscal year (FY) 2025 for the Fulbright-Hays Doctoral Dissertation Research Abroad (DDRA) Fellowship Program.

DATES:

Applications Available: October 30, 2024.

Deadline for Transmittal of Applications: January 15, 2025.

Pre-Application Webinar Information: The Department will hold a pre-application meeting via webinar for prospective applicants. Detailed information regarding this webinar will be provided on the DDRA website at https://www.ed.gov/grants-and-programs/grants-higher-education/ifle/fulbright-hays-doctoral-dissertation-research-abroad#How-To-Apply.

For additional information about the Department's discretionary grant process, especially for new potential grantees unfamiliar with grantmaking at the Department, please review the Education Grants: Application, Management, & Closeout website at www2.ed.gov/fund/grant/about/grantmaking/index.html.

The resources will be especially helpful for individuals who are exploring the Department's funding opportunities for the first time.

ADDRESSES: The addresses pertinent to this competition—including the addresses for obtaining and submitting an application—can be found under SUPPLEMENTARY INFORMATION.

FOR FURTHER INFORMATION CONTACT: Pamela J. Maimer, U.S. Department of Education, 400 Maryland Avenue SW, Washington, DC 20202. Telephone: (202) 453-6891. Email: DDRA@ed.gov.

If you are deaf, hard of hearing, or have a speech disability and wish to access telecommunications relay services, please dial 7-1-1.

SUPPLEMENTARY INFORMATION:

Full Text of Announcement

I. Funding Opportunity Description

Purpose of Program: The Fulbright-Hays DDRA Fellowship Program provides opportunities for doctoral students to engage in dissertation research abroad in modern foreign languages and area studies. The program is designed to contribute to the development and improvement of the study of modern foreign languages and area studies in the United States.

Assistance Listing Number: 84.022A.

OMB Control Number: 1840-0005.

Priorities: This notice contains one absolute priority and three competitive preference priorities. In accordance with 34 CFR 75.105(b)(2)(ii), the absolute priority and Competitive Preference Priorities 1 and 2 are from the regulations for this program (34 CFR 662.21(d)). Competitive Preference Priority 3 is from the Secretary's Notice of Final Supplemental Priorities and Definitions for Discretionary Grant Programs, published in the Federal Register on December 10, 2021 (86 FR 70612) (Supplemental Priorities).

Absolute Priority: For FY 2025, this priority is an absolute priority. Under 34 CFR 75.105(c)(3), we consider only applications that meet this priority.

This priority is:

Specific Geographic Regions of the World.

A research project that focuses on one or more of the following geographic areas: Africa, East Asia, Southeast Asia and the Pacific Islands, South Asia, the Near East, Central and Eastern Europe and Eurasia, and the Western Hemisphere (excluding the United States and its territories).

Competitive Preference Priorities: For FY 2025, these priorities are competitive preference priorities. Under 34 CFR 75.105(c)(2)(i), we award an additional two points to an application that meets Competitive Preference Priority 1; an additional two points to an application that meets Competitive Preference Priority 2; and an additional two points to an application that meets Competitive Preference Priority 3 (up to 6 additional points possible).

These priorities are:

Competitive Preference Priority 1—Focus on Less Commonly Taught Languages (2 points).

A research project that focuses on any modern foreign language except French, German, or Spanish.

Competitive Preference Priority 2—Thematic Focus on Academic Fields (2 points).

Applications that propose dissertation research projects in modern foreign languages and area studies with an academic focus on any of the following academic fields: science (including climate change), technology, engineering (including infrastructure studies), mathematics, computer science, psychology, social work, education (comparative or international), international development, political science, public health (including epidemiology), or economics.

Competitive Preference Priority 3—Promoting Equity in Student Access to Educational Resources and Opportunities (2 points).

The project will be implemented by one of the following entities:

• Historically Black colleges and universities (as defined in this notice).

• Minority-serving institutions (as defined in this notice).

• Tribal colleges and universities (as defined in this notice).

Definitions: The following definitions are from the Supplemental Priorities and 34 CFR 662.7.

Area studies means a program of comprehensive study of the aspects of a society or societies, including the study of their geography, history, culture, economy, politics, international relations, and languages.

Binational commission means an educational and cultural commission established, through an agreement between the United States and either a foreign government or an international organization, to carry out functions in connection with the DDRA Fellowship program.

Historically Black colleges and universities means colleges and universities that meet the criteria set out in 34 CFR 608.2.

Institution of Higher Education means the definition contained in 34 CFR 600.4.

Minority-serving institution means an institution that is eligible to receive assistance under sections 316 through 320 of part A of title III, under part B of title III, or under title V of the Higher Education Act of 1965 (HEA).

Tribal college or university has the meaning ascribed it in section 316(b)(3) of the HEA.

Note: Hispanic-Serving Institutions that meet the criteria in 34 CFR 606.2(a) are, among other qualifying institutions, “minority-serving institutions.”

Program Authority: 22 U.S.C. 2452(b)(6).

Note: Projects will be awarded and must be operated in a manner consistent with the nondiscrimination requirements contained in Federal civil rights laws.

Applicable Regulations: (a) The Education Department General Administrative Regulations in 34 CFR parts 75, 77, 81, 82, 84, 86, 97, 98, and 99. (b) The Office of Management and Budget (OMB) Guidelines to Agencies on Governmentwide Debarment and Suspension (Nonprocurement) in 2 CFR part 180, as adopted and amended as regulations of the Department in 2 CFR part 3485. (c) The Guidance for Federal Assistance in 2 CFR part 200, as adopted and amended as regulations of the Department in 2 CFR part 3474. (d) The regulations for this program in 34 CFR part 662. (e) The Supplemental Priorities.

Note: The open licensing requirement in 2 CFR 3474.20 does not apply to this program.

II. Award Information

Type of Award: Discretionary grants redistributed as fellowships to individual beneficiaries.

Estimated Available Funds: $8,249,000 for the Fulbright-Hays Overseas programs. We intend to use an estimated $3,000,000 for the DDRA competition. The actual level of funding, if any, depends on final congressional action. However, we are inviting applications to allow enough time to complete the grant process if Congress appropriates funds for this program.

Estimated Range of Awards: $15,000-$60,000.

Estimated Average Size of Awards: $37,500.

Estimated Number of Awards: 80.

Note: The Department is not bound by any estimates in this notice.

Project Period: The institutional project period is 18 months. Doctoral students may request funding for a period of no less than 6 months and no more than 12 months.

III. Eligibility Information

1.a. Eligible Applicants: Institutions of higher education (IHEs). Eligible doctoral students submit their individual research narratives and application forms to the project director at their home IHE, who then compiles all the research narratives from the doctoral students and incorporates them into the institutional grant application package that the institution submits electronically through the Department's G6 system on behalf of all doctoral student applicants at that institution.

b. Individuals Eligible to Receive a Fellowship: An individual is eligible to receive a fellowship if the individual: is a citizen, national or permanent resident of the United States; is a graduate student in good standing at an institution of higher education and, when the fellowship period begins, is admitted to candidacy in a doctoral degree program in modern foreign languages and area studies at that institution; is planning a teaching career in the United States upon completion of his or her doctoral program; and possesses sufficient foreign language skills to carry out the dissertation research project.

2.a. Cost Sharing or Matching: This program does not require cost sharing or matching.

b. Administrative Cost Limitation: In accordance with 34 CFR 663.30(d), the Secretary awards the institution an administrative allowance of $100 for each fellowship listed in the grant award document.

3. Subgrantees: A grantee under this competition may not award subgrants to entities to directly carry out project activities described in the grantee's application.

4. Build America, Buy America Act: This program is not subject to the Build America, Buy America Act (Pub. L. 117-58) domestic sourcing requirements.

5. Other: Under 34 CFR 662.22(b), no applicant for a fellowship may be awarded more than one graduate fellowship under the Fulbright-Hays Act from appropriations for a given fiscal year. Therefore, no DDRA Fellowship Program applicant concurrently may receive a grant from the Fulbright U.S. Student Program (FUSP) and a grant from the Fulbright-Hays DDRA Fellowship Program from the same fiscal year's appropriation. For this reason, when applying for a grant under the Fulbright-Hays DDRA Fellowship Program, a doctoral student must indicate in the application whether they have also applied for a FUSP grant. At any time during the U.S. Department of Education Fulbright-Hays DDRA Fellowship Program competition process, if a doctoral student accepts a fellowship award from the FUSP, or the FUSP disperses funds to provide training services to a doctoral student, that doctoral student is automatically deemed ineligible for consideration for a grant under the Fulbright-Hays DDRA Fellowship Program. Also, if the FUSP notifies the Fulbright-Hays DDRA Fellowship Program that it has awarded funds or provided training to a potential recipient of a Fulbright-Hays DDRA Fellowship, the Department will automatically deem the doctoral student ineligible for further consideration. Doctoral students thus should notify the person listed under FOR FURTHER INFORMATION CONTACT prior to accepting any grant support or training from the FUSP.

IV. Application and Submission Information

1. Address to Request Application Package: Both IHEs and doctoral student applicants can obtain an application package via the internet at the following internet address: www.g6.ed.gov.

2. Submission Dates and Times:

Submit applications for grants under the program electronically using www.g6.ed.gov. For information (including dates and times) about how to submit your application electronically, please refer to Other Submission Requirements.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

3. Intergovernmental Review: This program is not subject to Executive Order 12372 and the regulations in 34 CFR part 79.

4. Funding Restrictions: We reference regulations outlining funding restrictions in the Applicable Regulations section of this notice.

5. Recommended Page Limit: The application narrative is where you, the applicant, address the selection criteria that reviewers use to evaluate your application. We recommend that you (1) limit the application narrative to no more than 10 pages and the bibliography to no more than two pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, or no smaller than 10 pitch (characters per inch).

• Use one of the following fonts: Times New Roman, Courier, Courier New, or Arial.

The recommended page limit does not apply to the cover sheet, budget section, including the narrative budget justification; the assurance and certifications; or the one-page abstract, the resumes, the biography, or the letters of support. However, the recommended page limit does apply to all of the application narrative.

6. Unique Entity Identifier (UEI), Taxpayer Identification Number (TIN), and System for Award Management (SAM):

To do business with the Department, you must—

a. Have a UEI and a TIN;

b. Register both your UEI and TIN with SAM, the Government's primary registrant database;

c. Provide your UEI and TIN on your application; and

d. Maintain an active SAM registration with current information while your application is under review by the Department and, if you are awarded a grant, during the project period.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your UEI and TIN. We strongly recommend that you register early.

Note: Once your SAM registration is active, it may be 24 to 48 hours before you can submit an application through G6.

If you are currently registered with SAM, you may not need to make any changes. However, please make certain that the TIN associated with your UEI is correct. Also note that you will need to update your registration annually. This may take three or more business days.

Information about SAM is available at www.SAM.gov. To further assist you with obtaining and registering your UEI and TIN in SAM or updating your existing SAM account, please visit https://sam.gov/content/help.

7. Other Submission Requirements: Applications for grants under this program must be submitted electronically unless an IHE qualifies for an exception to this requirement in accordance with the instructions in this section.

a. Electronic Submission of Applications.

Submit applications for grants under the Fulbright-Hays DDRA Fellowship Program, Assistance Listing Number 84.022A, electronically using the G6 system, accessible through the Department's G6 site at www.g6.ed.gov. While completing the electronic application, both the IHE and the doctoral student applicant will be entering data online that will be saved into a database. Neither the IHE nor the doctoral student applicant may email an electronic copy of a grant application to us.

Please note the following:

• The process for submitting applications electronically under the Fulbright-Hays DDRA Fellowship Program requires several steps. The following is a brief overview of the process; however, all applicants should review the detailed description of the application process in the application package. In summary, the major steps are:

(1) IHEs must email the name of the institution and the full name and email address of the project director to DDRA@ed.gov. We suggest that applicant IHEs submit this information no later than 2 weeks prior to the application deadline date to ensure that they obtain access to G6 well before that date;

(2) Doctoral students must complete their individual applications and submit them to their home IHE project director using G6;

(3) Persons providing references for individual doctoral students must complete and submit reference forms for the doctoral students to the IHE project director using G6; and

(4) The IHE project director must officially submit the IHE's application, including all eligible individual doctoral student applications, reference forms, and other required forms, using G6.

• The IHE must complete the electronic submission of the grant application by 11:59:59 p.m., Eastern Time, on the application deadline date. G6 will not accept an application for this competition after 11:59:59 p.m., Eastern Time, on the application deadline date. Therefore, we strongly recommend that both the IHE and the doctoral student applicant not wait until close to the application deadline date to begin the application process. The table below shows the days and times that the G6 website will be available.

G6 Hours of Operation in Eastern Time
Sunday | Monday | Tuesday | Wednesday | Thursday | Friday | Saturday
Unavailable from 03:00 p.m.-11:59 p.m | Unavailable from 12:00 a.m.-06:00 a.m | Available 24 hours | Unavailable from 09:00 p.m.-11:59 p.m | Unavailable from 12:00 a.m.-06:00 a.m | Available 24 hours | Available 24 hours.

• Doctoral student applicants will not receive additional points because they submit their applications in electronic format, nor will we penalize the IHE or the doctoral student applicant if the applicant qualifies for an exception to the electronic submission requirement, as described elsewhere in this section, and submits an application in paper format.

• IHEs must upload all application documents electronically, including the following forms: the Application for Federal Assistance (SF 424), the Department of Education Supplemental Information for SF 424, Budget Information—Non-Construction Programs (ED 524), and all necessary assurances and certifications.

• Both IHEs and doctoral student applicants must upload their applications, including the required narrative sections and all required attachments to their applications, as files in a read-only flattened Portable Document Format (PDF), meaning any fillable documents must be saved and submitted as non-fillable PDF files. Do not upload any interactive or fillable PDF files. If you upload a file type other than a read-only, non-modifiable PDF (e.g., Word, Excel, WordPerfect, etc.) or submit a password-protected file, we will be unable to review that material. Please note that this will likely result in your application not being considered for funding. The Department will not convert material from other formats to PDF.

• Submit doctoral student transcripts electronically through the G6 system.

• Prior to submitting your electronic application, you may wish to print a copy of it for your records.

• After the individual doctoral student electronically submits their application to the IHE, the doctoral student will receive an automatic acknowledgment from the G6 system. After the person designated to provide a reference submits the reference electronically to the Department on behalf of a doctoral student applicant, they will receive an automatic acknowledgment from the G6 system. After the applicant IHE submits its application to the Department, including all eligible individual doctoral student applications, the applicant IHE will receive an automatic acknowledgment from G6 that will include a unique PR/Award number for the IHE's application.

• Within 3 working days after submitting its electronic application, the applicant IHE must—

(1) Print the SF 424 from G6;

(2) Have the Authorizing Representative sign the SF 424 form;

(3) Place the PR/Award number in the upper right-hand corner of the hard-copy signature page of the SF 424; and

(4) Email the signed SF 424 to DDRA@ed.gov.

• We may request that you provide us hard copies with original signatures for other forms in the application at a later date.

Application Deadline Date Extension in Case of System Unavailability: If an IHE is prevented from electronically submitting its application on the application deadline date because the G6 system is unavailable, we will grant the IHE an extension until 11:59:59 p.m., Eastern Time, the following business day to enable the IHE to transmit its application electronically, by mail, or by hand delivery. We will grant this extension if—

(1) The IHE is a registered user of the G6 system and the IHE has initiated an electronic application for this competition; and

(2) G6 is unavailable for 60 minutes or more between the hours of 8:30 a.m. and 11:59 p.m., Eastern Time, on the application deadline date.

We must acknowledge and confirm these periods of unavailability before granting the IHE an extension. To request this extension or to confirm our acknowledgment of any system unavailability, an IHE may contact either (1) the person listed under FOR FURTHER INFORMATION CONTACT or (2) the e-Grants help desk at 1-888-336-8930. If G6 is unavailable due to technical problems with the system and, therefore, the application deadline is extended, an email will be sent to all registered users who have initiated a G6 application. Extensions referred to in this section apply only to the unavailability of the G6 system.

b. Submission of Paper Applications.

The Department discourages paper applications, but if electronic submission is not possible (e.g., you do not have access to the internet), (1) you must provide a prior written notification that you intend to submit a paper application and (2) your paper application must be postmarked by the application deadline date.

The prior written notification may be submitted by email or by mail to the person listed in the FOR FURTHER INFORMATION CONTACT section above. If you submit your notification by email, it must be received by the Department no later than 14 calendar days before the application deadline date. If you mail your notification to the Department, it must be postmarked no later than 14 calendar days before the application deadline date.

If you submit a paper application, you must have and include in your application a UEI; and mail the original and two copies of your application, on or before the application deadline date, to the Department at the following address: U.S. Department of Education, OFO/G5 Functional Application Team, Mail Stop 5C231, Attention: 84.022A, 400 Maryland Avenue SW, Washington, DC 20202-4260.

The IHE must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If the IHE mails its application through the U.S. Postal Service, we do not accept either of the following as proof of mailing:

(1) A private metered postmark.

(2) A mail receipt that is not dated by the U.S. Postal Service.

Note: The U.S. Postal Service does not uniformly provide a dated postmark. Before relying on this method, the IHE should check with its local post office.

The Department will not consider applications postmarked after the application deadline date.

c. Note for Mail or Hand Delivery of Paper Applications: If an IHE mails or hand delivers its application to the Department—

(1) The IHE must indicate on the envelope and—if not provided by the Department—in Item 11 of the SF 424, the ALN, including suffix letter, if any, of the competition under which the IHE is submitting its application; and

(2) The G6 Functional Application Team will notify you of the Department's receipt of your grant application. If you do not receive this notification within 15 business days from the application deadline date, you should contact the person listed under FOR FURTHER INFORMATION CONTACT.

V. Application Review Information

1. Selection Criteria: The selection criteria for this competition are from the regulations for this program in 34 CFR 662.21 and are as follows:

(a) Quality of proposed project. (63 points) The Secretary reviews each application to determine the quality of the research project proposed by the applicant. The Secretary considers—

(1) The statement of the major hypotheses to be tested or questions to be examined, and the description and justification of the research methods to be used (20 points);

(2) The relationship of the research to the literature on the topic and to major theoretical issues in the field, and the project's originality and importance in terms of the concerns of the discipline (10 points);

(3) The preliminary research already completed in the United States and overseas or plans for such research prior to going overseas, and the kinds, quality and availability of data for the research in the host country or countries (10 points);

(4) The justification for overseas field research and preparations to establish appropriate and sufficient research contacts and affiliations abroad (10 points);

(5) The applicant's plans to share the results of the research in progress and a copy of the dissertation with scholars and officials of the host country or countries (3 points); and

(6) The guidance and supervision of the dissertation advisor or committee at all stages of the project, including guidance in developing the project, understanding research conditions abroad, and acquainting the applicant with research in the field (10 points).

(b) Qualifications of the applicant. (37 points) The Secretary reviews each application to determine the qualifications of the applicant. The Secretary considers—

(1) The overall strength of the applicant's graduate academic record (10 points);

(2) The extent to which the applicant's academic record demonstrates strength in area studies relevant to the proposed project (10 points);

(3) The applicant's proficiency in one or more of the languages (other than English) of the host country or countries of research (10 points);

(4) The extent to which the applicant's academic record demonstrates steps taken to further improve advanced language proficiency to overcome any anticipated language barriers relative to the proposed research project (5 points); and

(5) The applicant's ability to conduct research in a foreign cultural context, as evidenced by the applicant's references or previous overseas experience, or both (2 points).

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For FY 2025, doctoral student applications will be divided into seven categories based on the geographic area focus of their research projects, as described in the absolute priority. Foreign language and area studies experts assigned to geographic area-based panels will review the doctoral student applications. Each panel will review, score, and rank its applications separately from the applications assigned to the other geographic area panels. At the conclusion of the peer review process, however, all fellowship applications in the competition will be ranked from the highest to the lowest score for funding purposes.

If there are applications on the rank order slate with the same average score, the Fulbright Foreign Scholarship Board's (FFSB) policy governing veteran's preference will be used in the tiebreaker and selection process. Veteran's preference will be used first to determine which application to recommend for funding. This means that in instances where two or more applications have the same average score on the rank order slate, and there are insufficient funds to support all of the equally ranked applications, the veteran's application will be given preference.

For applications that have tied average scores but are not subject to veteran's preference consideration, we will use the average score assigned on the Technical Review Forms for the “Quality of proposed project” selection criterion. If a tie still exists, the average score for selection criterion (a)(1) under “Quality of proposed project” (20 points) will be used as the tiebreaker. As a final tiebreaker, should it become necessary, we will use the average score assigned for the “Qualifications of the applicant” selection criterion.

Finally, in selecting DDRA fellowship recipients, under 34 CFR 662.20 the Secretary will consider information on budget, political sensitivity, and feasibility from binational commissions or United States diplomatic missions, or both, in the proposed country or countries of research.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The objective for the Fulbright-Hays DDRA Fellowship Program is to provide grants to colleges and universities to fund individual doctoral students to conduct research in other countries in modern foreign languages and area studies for periods of 6 to 12 months.

For the purpose of Department reporting under 34 CFR 75.110, the Department will use the following measures to evaluate its success in meeting this objective:

DDRA Measure 1: The percentage of DDRA fellows who increased their foreign language scores in speaking, reading, or writing by at least one proficiency level.

DDRA Measure 2: The percentage of DDRA fellows who complete their degree in their program of study within four years of receipt of the fellowship.

DDRA Measure 3: The percentage of DDRA fellows who found employment that utilized their language and area studies skills within eight years of receiving their award.

DDRA Measure 4: Efficiency Measure—The cost per DDRA fellow who found employment that utilized their language and area studies skills within eight years.

The information provided by grantees in their performance reports submitted via the International Resource Information System (IRIS) will be the source of data for these measures. Reporting screens for institutions and fellows may be viewed at http://iris.ed.gov/iris/pdfs/DDRA_director.pdf, and http://iris.ed.gov/iris/pdfs/DDRA_fellow.pdf.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Nasser H. Paydar,
Assistant Secretary for Postsecondary Education.

[FR Doc. 2024-25127 Filed 10-29-24; 8:45 am]

BILLING CODE 4000-01-P